DEPARTMENT OF COMMERCE

National Oceanic and Atmospheric Administration

RIN 0648-XX74

New England Fishery Management Council; Public Meeting

AGENCY: National Marine Fisheries Service (NMFS), National Oceanic and Atmospheric Administration (NOAA), Commerce.

ACTION: Notice; public meeting.

SUMMARY: The New England Fishery Management Council's (Council) Joint Groundfish/Scallop Committee will meet to consider actions affecting New England fisheries in the exclusive economic zone (EEZ).

DATES: The meeting will be held on August 10, 2010 at 9 a.m.

ADDRESSES: The meeting will be held at the Four Points Sheraton, 407 Squire Road, Revere, MA 02151; telephone: (781) 284-7200; fax: (781) 289-3176.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Committee will continue development of a joint Northeast Multispecies Fishery and Scallop Fishery management action that will be developed to meet two objectives: (1) to develop measures for the Northeast multispecies and scallop fisheries that facilitates the harvest of optimum yield from the two fisheries by addressing the potential constraints of the groundfish stock allocations; and (2) to develop measures to reduce catch of groundfish in the scallop fishery by adopting measures that would allow benefits for the fishery from reduction in groundfish catch. The Committee will consider recommendations from the Joint Groundfish/Scallop Advisory panel. Options the Advisory Panel will recommend include, but are not limited to, such measures as developing management options to remove the yellowtail flounder catch cap that applies to the Georges Bank access areas, allowing research programs in the closed areas to determine the best times for scallop access, allowing the formation of voluntary bycatch cooperatives for the purpose of developing gear modifications that reduce groundfish bycatch, allocating the scallop fishery 100 percent of the yellowtail flounder it is predicted it will catch, and defining the General Category IFQ fishery as a separate sub-component of the yellowtail flounder annual catch limit. The Committee will consider these and other recommendations of the Advisory Panel and may forward these suggestions, as well as others developed by the Committee, to the Council for consideration. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: July 20, 2010.
Tracey L. Thompson,
Acting Director, Office of Sustainable Fisheries, National Marine Fisheries Service.

[FR Doc. 2010-18039 Filed 7-22-10; 8:45 am]

BILLING CODE 3510-22-S